DEPARTMENT OF TRANSPORTATION

Office of the Secretary

Notice of Applications for Certificates of Public Convenience and Necessity and Foreign Air Carrier Permits Filed Under Subpart Q During the Week Ending October 20, 2000

The following Applications for Certificates of Public Convenience and Necessity and Foreign Air Carrier Permits were filed under Subpart Q of the Department of Transportation's Procedural Regulations (See 14 CFR 302.1701 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-2000-8155.

Date Filed: October 19, 2000.

Due Date for Answers, Conforming Applications, or Motion to Modify Scope: November 9, 2000.

Description: Application of Britannia Airways AB (“Applicant”) pursuant to 49 U.S.C. Sections 41301 et seq. and Subpart Q, applies for a foreign air carrier permit authorizing it to engage in charter foreign air transportation of persons and their accompanying baggage, and property: (1) Between a point or point in Sweden, Denmark and Norway and a point or points in the United States; (2) between a point or points in the United States and any point or points in a third country provided that such service constitutes point of a continuous operation that includes service to Sweden, Denmark and/or Norway for the purpose of carrying local traffic between Sweden, Denmark and Norway and the United States; and also authorizing Applicant to engage in other charter trips in foreign air transportation subject to the terms, conditions, and limitations of the Department's regulations governing charters.

Dorothy Y. Beard,
Federal Register Liaison.

[FR Doc. 00-29235 Filed 11-14-00; 8:45 am]

BILLING CODE 4910-62-P